DEPARTMENT OF ENERGY

Federal Energy Regulatory Commission

[Project No. 13346-002]

PayneBridge, LLC; Notice of Preliminary Permit Application Accepted for Filing and Soliciting Comments, Motions To Intervene, and Competing Applications

On November 1, 2012, PayneBridge, LLC filed an application for a successive preliminary permit under section 4(f) of the Federal Power Act proposing to study the feasibility of the proposed Williams Dam Water Power Project No. 13346-002, to be located at the existing Williams Dam on the East Fork of the White River, near the City of Bedford in Lawrence County, Indiana. The Williams Dam is owned by the State of Indiana.

The proposed project would consist of: (1) An existing 55-foot by 126-foot concrete powerhouse; (2) four new vertical Kaplan turbine having a total combined generating capacity of 4.0 megawatts (MW); (3) four new 1.0 MW three phase, 60-cycle generators; (4) a new 40-foot by 40-foot substation; (5) an existing 100-foot-wide by 21.5-foot-high by 80-foot-long intake structure; (6) a 100-foot-wide by 140-long tailrace area; (7) a new 265-foot-long, 69-kilovolt transmission line; and (8) appurtenant facilities. The project would have an estimated annual generation of 17,849 megawatt-hours.

Applicant Contact: Daniel Lissner, 239 Causeway Street, Suite 300, Boston, MA 02114; (978) 252-7111.

FERC Contact: Tyrone A. Williams, (202) 502-6331.

Deadline for filing comments, motions to intervene, and competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Kimberly D. Bose, Secretary, Federal Energy Regulatory Commission, 888 First Street NE., Washington, DC 20426.

More information about this project, including a copy of the application can be viewed or printed on the “eLibrary” link of Commission's Web site at http://www.ferc.gov/docs-filing/elibrary.asp. Enter the docket number (P-13346) in the docket number field to access the document. For assistance, contact FERC Online Support.

Dated: January 8, 2013.
Kimberly D. Bose,
Secretary.

[FR Doc. 2013-00648 Filed 1-14-13; 8:45 am]

BILLING CODE 6717-01-P